DEPARTMENT OF HEALTH AND HUMAN SERVICES

Health Resources and Services Administration

Charter Renewal for the Advisory Committee on Infant Mortality

AGENCY: Health Resources and Services Administration (HRSA), Department of Health and Human Services (HHS).

ACTION: Notice.

SUMMARY: In accordance with the Federal Advisory Committee Act, HHS is hereby giving notice that the Advisory Committee on Infant Mortality (ACIM or the Committee) has been renewed.

DATES: The effective date of the charter renewal is September 30, 2019.

FOR FURTHER INFORMATION CONTACT: David S. de la Cruz, Ph.D., MPH, Designated Federal Official (DFO), HRSA, Maternal and Child Health Bureau, 5600 Fishers Lane, 18N25, Rockville, Maryland 20857; 301-443-0543; or dcruz@hrsa.gov.

SUPPLEMENTARY INFORMATION: ACIM is authorized by section 222 of the Public Health Service Act (42 U.S.C. 217a), as amended. The Committee is governed by provisions of Public Law 92-463, as amended, (5 U.S.C. App. 2), which sets forth standards for the formation and use of Advisory Committees. ACIM advises the Secretary of HHS on department activities and programs directed at reducing infant mortality and improving the health status of pregnant women and infants. ACIM represents a public-private partnership at the highest level to provide guidance and focus attention on the policies and resources required to address the reduction of infant mortality and the improvement of the health status of pregnant women and infants. With a focus on life course, the Committee also addresses disparities in maternal health to improve maternal health outcomes, including preventing and reducing maternal mortality and severe maternal morbidity. The Committee also provides advice on how best to coordinate the myriad of federal, state, local, and private programs and efforts that are designed to deal with the health and social problems impacting infant mortality and maternal health.

The charter renewal for ACIM was approved on September 30, 2019, which also stands as the filing date. Renewal of the ACIM charter gives authorization for the Committee to operate until September 30, 2021. A copy of the ACIM charter is available on the ACIM website at https://www.hrsa.gov/advisory-committees/infant-mortality/index.html. A copy of the charter also can be obtained by accessing the FACA database that is maintained by the Committee Management Secretariat under the General Services Administration. The website address for the FACA database is http://www.facadatabase.gov/.

Maria G. Button,
Executive Secretariat.

[FR Doc. 2019-21439 Filed 10-1-19; 8:45 am]

BILLING CODE 4165-15-P